POSTAL SERVICE BOARD OF GOVERNORS

Sunshine Act Meeting; Notification of Items Added to Meeting Agenda

Date of Meeting: June 19, 2007.

Status: Closed.

Previous Announcement: 72 FR 32338, June 12, 2007.

Additions: 1. Postal Regulatory Commission Opinion and Recommended Decision in Docket No. MC2006-7, Stamped Stationery and Stamped Cards Classifications.

2. Postal Regulatory Commission Opinion and Recommended Decision in Docket No. MC2007-2, Repositionable Notes Minor Classification Change.

3. Filing with the Postal Regulatory Commission for Premium Forwarding Service.

At its closed meeting on June 19, 2007, the Board of Governors of the United States Postal Service voted unanimously to add these items to the agenda of its closed meeting and that no earlier announcement was possible. The General Counsel of the United States Postal Service certified that in her opinion discussion of this item could be properly closed to public observation.

Contact Person for More Information: Wendy A. Hocking, Secretary of the Board, U.S. Postal Service, 475 L'Enfant Plaza, SW., Washington, DC 20260-1000.

Wendy A. Hocking,
Secretary.

[FR Doc. 07-3156 Filed 6-22-07; 4:56 pm]

BILLING CODE 7710-12-M